DEPARTMENT OF THE INTERIOR

Bureau of Land Management

[LLAZP01000.L16100000.DR0000.LXSS081A0000.241A]

Notice of Availability of Record of Decision for the Agua Fria National Monument and Bradshaw-Harquahala Resource Management Plan/Environmental Impact Statement

AGENCY: Bureau of Land Management, Interior.

ACTION: Notice of Availability.

SUMMARY: The Bureau of Land Management (BLM) announces the availability of the Record of Decision (ROD)/Approved Resource Management Plan (RMP) for the Agua Fria National Monument and Bradshaw-Harquahala Planning Area, located in central Arizona. The Arizona State Director has signed the ROD on April 22, 2010, which constitutes the final decision of the BLM and makes the Approved RMP effective immediately.

ADDRESSES: Copies of the ROD/Approved RMP are available upon request from the Field Manager, Hassayampa Field Office, Bureau of Land Management, 21605 N. 7th Avenue, Phoenix, Arizona 85027 or via the Internet at http://www.blm.gov/az/st/en/prog/planning/afria_plan.html. Copies of the ROD/Approved RMP are available for public inspection at the Hassayampa Field Office, the BLM Arizona State Office, and at public libraries in Phoenix (Central Avenue branch), Prescott, Peoria, Black Canyon City, Mayer, and Wickenburg. Interested persons may also review the ROD/Approved RMP on the Internet at http://www.blm.gov/az/st/en/prog/planning/afria_plan.html.

FOR FURTHER INFORMATION CONTACT: For further information contact Steven Cohn, Field Manager, telephone 623-580-5500; address Bureau of Land Management, Hassayampa Field Office, 21605 N. 7th Avenue, Phoenix, Arizona 85027; or e-mail AZ_AFNM_BRADSHAW@blm.gov.

SUPPLEMENTARY INFORMATION: Through communication media such as meetings, newsletters, and news releases, the BLM described opportunities for the public to identify issues that needed to be addressed and to participate in the development of plan alternatives. The public also provided comments during the 90-day public comment period on the Draft RMP/Draft Environmental Impact Statement (EIS) which were addressed in the Final EIS. The Proposed RMP/Final EIS was developed in cooperation with the following agencies: The U.S. Bureau of Reclamation, the Prescott National Forest, the Tonto National Forest, the Luke Air Force Base, the Arizona Game and Fish Department, the Arizona Department of Transportation, the Federal Highway Administration, Maricopa County, Yavapai County, the City of Peoria, and the City of Phoenix. The BLM also conducted consultation with Indian tribes who have oral traditions or cultural concerns relating to the planning area or who are documented as having occupied or used portions of the planning area during prehistoric or historic times.

The Agua Fria National Monument includes 70,900 acres of BLM-administered lands. The Approved RMP for the Monument provides for the protection of the significant cultural and natural resources that were identified as objects in the Presidential Proclamation establishing the Agua Fria National Monument. The Bradshaw-Harquahala Planning Area encompasses 896,100 surface acres of BLM-administered lands. In addition to the surface acres, there are 346,300 acres of BLM-administered mineral estate, with non-Federal surface ownership, within the boundaries of the planning area. The Hassayampa Field Office also administers another 181,200 acres of mineral estate in Coconino County in northern Arizona, which are addressed in the Approved RMP. The Approved RMP includes strategies for protecting and preserving the biological, cultural, recreational, geological, educational, scientific, and scenic values that balance multiple uses of the BLM-administered lands throughout the area.

The Bradshaw-Harquahala ROD and Approved RMP identify four new Areas of Critical Environmental Concern (ACEC): Tule Creek ACEC (640 acres); Vulture Mountain ACEC (6,120 acres); Black Butte ACEC (8,260 acres); and Harquahala Mountains ACEC (74,950 acres). The following types of resource-use limitations generally apply to these ACECs: (1) Allowable uses are limited to those which are compatible with the important natural or cultural resources for which the area is designated; (2) recreation facilities are limited to projects that protect ACEC values; (3) travel is permitted only on designated open and signed routes; and (4) no new mineral material disposal sites would be authorized. Detailed information is described in the Special Designations section of the Approved RMP.

The Agua Fria National Monument ROD and Approved RMP remove designations of the Perry Mesa ACEC and the Larry Canyon ACEC, established in the Phoenix RMP (1988). The protective management prescriptions for the two ACECs are incorporated into the ROD and Approved RMP, or in the case of lands and minerals actions, are more restrictive under the ROD and Approved RMP.

The Preferred Alternative in the Draft RMP/Draft EIS (published January 6, 2006) was revised to address comments received during the 90-day public comment period. The resultant alternative became the Proposed Plan in the Proposed RMP/Final EIS, published on August 8, 2008 and has been carried forward as the Approved RMP. Six protests were received during the 30-day protest period following the release of the Proposed RMP/Final EIS. These protests were dismissed or denied by the BLM Director. Minor clarifications and changes between the Proposed Plan/Final EIS and the ROD/Approved Plan include change to text to clarify certain decisions, provide an additional map of the Black Canyon utility corridor, and make minor corrections to Proposed RMP Maps 2-83, 2-84, 2-86 and 2-90. Depictions of potential route designations have been deleted from these maps, as the Approved RMP does not contain route designations for the Bradshaw-Harquahala Planning Area. Route designations will be addressed in a future phase of plan implementation with opportunities for public participation.

The BLM has determined that the Approved RMP for the Agua Fria National Monument provides for long-term protection of the Monument's objects, while allowing for authorized uses, recreation activities, scientific studies, and interpretive facilities that are consistent with the protection of monument values. The Approved RMP for the Bradshaw-Harquahala Planning Area provides an optimal balance between authorized resource use and the protection and long-term sustainability of sensitive resources within the planning area.

The Arizona Governor's Office did not identify any inconsistencies between the Proposed RMP/Final EIS and state or local plans, policies, and programs following the 60-day Governor's Consistency Review (initiated April 15, 2008) in accordance with planning regulations at 43 CFR 1610.3-2(e).

The Approved RMP for the Agua Fria National Monument contains implementation level decisions that identify individual roads and trails within designated areas as open, closed, or limited. These decisions, which are contained in Appendix C of the Approved RMP, are appealable under 43 CFR part 4. Any party adversely affected by an implementation decision may appeal within 30 days of publication of this Notice of Availability pursuant to 43 CFR, part 4, subpart E. The appeal should state the specific route(s), as identified in Appendix C of the Approved RMP, on which the decision is being appealed. The appeal must be filed with the Hassayampa Field Manager at the above-listed address. Please consult the appropriate regulations (43 CFR, part 4, subpart E) for further appeal requirements.

Authority: 40 CFR 1506.6.

James G. Kenna,
Arizona State Director.

[FR Doc. 2010-9177 Filed 4-21-10; 8:45 am]

BILLING CODE 4310-32-P